DEPARTMENT OF HOMELAND SECURITY

8 CFR Parts 215 and 235

[Docket No. USCBP-2020-0062]

RIN 1651-AB12

Collection of Biometric Data From Aliens Upon Entry to and Departure From the United States; Re-Opening of Comment Period

AGENCY: U.S. Customs and Border Protection, Department of Homeland Security.

ACTION: Notice of proposed rulemaking; re-opening of comment period.

SUMMARY: U.S. Customs and Border Protection (CBP) published a notice of proposed rulemaking (NPRM) in the Federal Register on November 19, 2020, concerning collection of facial images and other biometrics from aliens entering and departing the United States. Based on comments received on the NPRM, CBP has decided to re-open the comment period for an additional 30 days.

DATES: The comment period for the notice of proposed rulemaking published on November 19, 2020 at 85 FR 74162, are reopened. Comments must be received on or before March 12, 2021.

FOR FURTHER INFORMATION CONTACT: Ashley Ortiz, Management and Program Analyst, Office of Field Operations, ashley.ortiz@cbp.dhs.gov or (202) 412-7332.

ADDRESSES: Comments may be submitted, identified by docket number USCBP-2020-0062, by the following method:

Federal eRulemaking Portal: http://www.regulations.gov. Follow the instructions for submitting comments.

Due to COVID-19-related restrictions, CBP has temporarily suspended its ability to receive public comments by mail.

Instructions: All submissions received must include the agency name and docket title for this rulemaking, and must reference docket number USCBP-2020-0062. All comments received will be posted without change to http://www.regulations.gov, including any personal information provided. For detailed instructions on submitting comments and additional information on the rulemaking process, see the “Public Participation” heading of the SUPPLEMENTARY INFORMATION section of this document.

Docket: For access to the docket to read background documents or comments received, go to: https://www.regulations.gov. Due to relevant COVID-19-related restrictions, CBP has temporarily suspended on-site public inspection of submitted comments.

SUPPLEMENTARY INFORMATION:

Public Participation

Interested persons are invited to participate in this rulemaking by submitting written data, views, or arguments on the NPRM. Comments that will provide the most assistance to CBP will reference a specific portion of the NPRM, explain the reason for any recommended change, and include data, information, or authority that support such recommended change.

Background

The Department of Homeland Security (DHS) is required by statute to develop and implement an integrated, automated entry and exit data system to match records, including biographic data and biometrics, of aliens entering and departing the United States. Although the current regulations provide that DHS may require certain aliens to provide biometrics when entering and departing the United States, they only authorize DHS to require certain aliens to provide biometrics upon departure under pilot programs at land ports and at up to 15 airports and seaports. To advance the legal framework for DHS to begin a comprehensive biometric entry-exit system, DHS is proposing to amend the regulations to remove the references to pilot programs and the port limitation to permit collection of biometrics from aliens departing from airports, land ports, seaports, or any other authorized point of departure. In addition, to enable U.S. Customs and Border Protection (CBP) to make the process for verifying the identity of aliens more efficient, accurate, and secure by using facial recognition technology, DHS is proposing to amend the regulations to provide that all aliens may be required to be photographed upon entry and/or departure. U.S. citizens may voluntarily opt out of participating in CBP's biometric verification program. The NPRM also makes other minor conforming and editorial changes to the regulations. For more detailed information on all of the proposed changes, see the NPRM published on November 19, 2020 at 85 FR 74162.

Based on the comments received, CBP is re-opening the comment period to allow for additional comments to be submitted on the NPRM. Comments must be received on or before March 12, 2021.

Dated: February 4, 2021.
William A. Ferrara,
Executive Assistant Commissioner, Office of Field Operations, U.S. Customs and Border Protection.

[FR Doc. 2021-02699 Filed 2-9-21; 8:45 am]

BILLING CODE 9111-14-P